DEPARTMENT OF ENERGY

Federal Energy Regulatory Commission

[Project No. 13587-000]

American Hydro Power, Inc.; Notice of Preliminary Permit Application Accepted for Filing and Soliciting Comments, Motions To Intervene, and Competing Applications

January 22, 2010.

On November 20, 2009, American Hydro Power, Inc. filed an application, pursuant to Section 4(f) of the Federal Power Act, proposing to study the feasibility of the Diamond Mills Dam Hydroelectric Project No. 13587, to be located on Esopus Creek, in Ulster County, New York.

The proposed project would consist of: (1) The existing 32-foot-high, 346-foot-long Diamond Mills Dam; (2) an existing 140-acre impoundment with a normal water surface elevation of 57 feet mean sea level; (3) two new turbines and generators with a total capacity of 423 kilowatts; (4) an existing 17.5-foot-wide, 50-foot-long concrete sluiceway; (5) an existing trash rack and sluice gate; (6) a refurbished 6-foot-diameter, 40-foot-long penstock connected to two new 3-foot-diameter, 5-foot-long penstock sections; (7) two new 3-foot-diameter, 15-foot-long pipes connected to the existing tailrace; (8) a new 18-foot-wide, 52-foot-long masonry powerhouse; (9) a new approximately 80-foot-long, 4,160-volt transmission line from the powerhouse to a transformer station, and a new approximately 50-foot-long, 480-volt transmission line and 200-foot-long, 13.2-kilovolt transmission line from the transformer station; (10) and appurtenant facilities. The project would have an estimated annual generation of 2,113 megawatt-hours.

Applicant Contact: Thomas Struzzieri, 319 Main Street, Saugerties, NY 12477, (845) 246-8833.

FERC Contact: Brandon Cherry, (202) 502-8328.

Deadline for filing comments, motions to intervene, competing applications (without notices of intent), or notices of intent to file competing application: 60 days from the issuance of this notice. Comments, motions to intervene, notices of intent, and competing applications may be filed electronically via the Internet. See 18 CFR 385.2001(a)(1)(iii) and the instructions on the Commission's Web site under the “eFiling” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp.

More information about this project can be viewed or printed on the “eLibrary” link of Commission's Web site at http://www.ferc.gov/docs-filing/elibrary.asp. Enter the docket number (P-13587) in the docket number field to access the document. For assistance, call toll-free 1-866-208-3372.

Kimberly D. Bose,
Secretary.

[FR Doc. 2010-1980 Filed 1-29-10; 8:45 am]

BILLING CODE 6717-01-P